DEPARTMENT OF THE TREASURY

Treasury Advisory Committee on Commercial Operations of the Customs Service

AGENCY: Departmental Offices, Treasury.

ACTION: Notice of meeting.

SUMMARY: This notice announces the date, time, and location for the quarterly meeting of the Treasury Advisory Committee on Commercial Operations of the U.S. Customs Service (COAC), and the provisional meeting agenda.

DATES: The next meeting of the COAC will be held on Friday, September 20, 2002, starting at 9 a.m., in Seattle, Washington. The meeting will be held at Microsoft Conference Center—Building 33, (Conference Center), 16070 NE 36th Way, Redmond, WA 98052, for approximately four hours.

FOR FURTHER INFORMATION CONTACT: Gordana S. Earp, Director, Tariff and Trade Affairs (Enforcement), Office of the Under Secretary (Enforcement), Telephone: (202) 622-0336.

At the meeting, the Advisory Committee is expected to pursue the following draft agenda. The agenda may be modified prior to the meeting.

Agenda

I. Security

A. Update on Customs Reorganization; Cargo Security Fees;

B. Update on Supply Chain Security and Customs—Trade Partnership Against Terrorism (“C-TPAT”);

II. Other Issues

A. Report of the Customs Office of Rulings and Regulations;

B. Customs Business Regulations;

C. Focused Assessment and Importer Self-Assessment Programs;

III. Administrative Issues

A. 2002 Annual Report

B. Update on COAC Re-chartering

SUPPLEMENTARY INFORMATION: The COAC was created by Congress in Public Law 100-203, Title IX, Section 9503(c), December 22, 1987, 100 Stat. 1330-381 (19 U.S.C. 2071 note). The Committee advises the Secretary of the Treasury and reports to Congress any recommendations on matters involving the commercial operations of the United States Customs Service. By statute, the Secretary of the Treasury appoints the members of this Committee, and the Assistant Secretary of the Treasury for Enforcement presides over the meetings.

The September 20, 2002 meeting of the Committee is open to the public; however, participation in the Committee's deliberations is limited to Committee members, Customs and Treasury Department staff, and persons invited to address the meeting for special presentations. A person other than an Advisory Committee member who wishes to attend the meeting should contact Theresa Manning at (202) 622-0220 or Helen Belt at (202) 622-0230.

Dated: August 15, 2002.
Gordana Earp,
Acting Deputy Assistant Secretary, Regulatory, Tariff, and Trade (Enforcement).

[FR Doc. 02-21486 Filed 8-22-02; 8:45 am]

BILLING CODE 4810-25-M